DEPARTMENT OF THE TREASURY

Submission for OMB Review; Comment Request

November 19, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before December 28, 2001 to be assured of consideration.

U.S. Customs Service (CUS)

OMB Number: 1515-0085.

Form Number: Customs Form 247.

Type of Review: Extension.

Title: Cost Submission.

Description: The Cost Submissions, Customs Form 247, are used by importers to furnish cost information to Customs which serves as the basis to establish the compliance with Customs Laws.

Respondents: Business or other for-profit, Individuals or households, Not-for-profit institutions.

Estimated Number of Respondents: 1,000.

Estimated Burden Hours Per Respondent : 50 hours.

Frequency of Response: On occasion.

Estimated Total Reporting Burden: 50,000 hours.

OMB Number: 1515-0104.

Form Number: None.

Type of Review: Extension.

Title: Declaration of Ultimate Consignee that Articles were Exported for Temporary Scientific or Educational Purposes.

Description: The “Declaration of Ultimate Consignee that Articles were Exported for Temporary Scientific or Educational Purposes” is used to provide duty free entry under conditions when articles are temporarily exported solely for scientific or educational purposes.

Respondents: Business or other for-profit, Not-for-profit institutions.

Estimated Number of Respondents: 55.

Estimated Burden Hours Per Respondent : 30 minutes.

Frequency of Response: On occasion.

Estimated Total Reporting Burden: 27 hours.

OMB Number: 1515-0110.

Form Number: None.

Type of Review: Extension.

Title: Declaration by the Person Who Performed the Processing of Goods Abroad.

Description: This declaration, prepared by the foreign processor, submitted by the filer with each entry, provides details on the processing performed abroad and is necessary to assist Customs in determining whether the declared value of the processing is accurate.

Respondents: Business or other for-profit, Not-for-profit institutions.

Estimated Number of Respondents: 730.

Estimated Burden Hours Per Respondent : 15 minutes.

Frequency of Response: On occasion.

Estimated Total Reporting Burden: 1,880 hours.

OMB Number: 1515-0144.

Form Number: Customs Forms 301 and 5297.

Type of Review: Extension.

Title: Importation Bond Structure.

Description: The bond is used to assure that duties, taxes, charges, penalties, and reimbursable expenses owed to the Government are paid; to facilitate the movement of merchandise through Customs; and to provide legal recourse for the Government for noncompliance with Customs laws and regulations and the laws and regulations of other agencies which are enforced by Customs.

Respondents: Business or other for-profit, Not-for-profit institutions.

Estimated Number of Respondents: 590,250.

Estimated Burden Hours Per Respondent: 15 minutes.

Frequency of Response: On occasion.

Estimated Total Reporting Burden: 147,596 hours.

OMB Number: 1515-0192.

Form Number: None.

Type of Review: Extension.

Title: U.S./Israel Free Trade Agreement.

Description: This collection is used to ensure conformance with the provisions of the U.S./Israel Free Trade Agreement for duty free entry status.

Respondents: Business or other for-profit, Not-for-profit institutions.

Estimated Number of Respondents: 34,500.

Estimated Burden Hours Per Respondent: 10 minutes.

Frequency of Response: On occasion.

Estimated Total Reporting Burden: 5,505 hours.

OMB Number: 1515-0207.

Form Number: None.

Type of Review: Extension.

Title: Articles Assembled Abroad with Textile Components Cut to Shape in the U.S.

Description: This collection of information enables Customs to ascertain whether the conditions and requirements relating to 9802.00.80 HTUS, have been met.

Respondents: Business or other for-profit, Not-for-profit institutions.

Estimated Number of Respondents: 500.

Estimated Burden Hours Per Respondent: 20 minutes.

Frequency of Response: On occasion.

Estimated Total Reporting Burden: 667 hours.

Clearance Officer: Tracey Denning, (202) 927-1429, U.S. Customs Service, Information Services Branch, Ronald Reagan Building, 1300 Pennsylvania Avenue, NW., Room 3.2.C, Washington, DC 20229.

OMB Reviewer: Alexander T. Hunt, (202) 395-7860, Office of Management and Budget, Room 10202, New Executive Office Building, Washington, DC 20503.

Mary A. Able,
Departmental Reports, Management Officer.

[FR Doc. 01-29577 Filed 11-27-01; 8:45 am]

BILLING CODE 4820-02-P